DEPARTMENT OF THE INTERIOR

National Park Service

Draft Environmental Impact Statement for the General Management Plan, Monocacy National Battlefield, Maryland

AGENCY: Department of the Interior, National Park Service.

ACTION: Notice of Availability of the Draft Environmental Impact Statement for the General Management Plan, Monocacy National Battlefield, Maryland.

SUMMARY: Pursuant to National Environmental Policy Act of 1969, 42 U.S.C. 4332(C), the National Park Service (NPS) announces the availability of the Draft Environmental Impact Statement for the General Management Plan, Monocacy National Battlefield, Maryland. The Draft Environmental Impact Statement for the General Management Plan analyzes the impacts of a no-action and three action alternatives. Alternative 4 is the NPS' preferred alternative. The official responsible for this decision is the Regional Director, National Capital Region, National Park Service.

DATES: The NPS will undertake a 60-day public review of the Draft Environmental Impact Statement for the General Management Plan following publication by the Environmental Protection Agency of the Notice of Availability of the Draft Environmental Impact Statement.

ADDRESSES: Information will be available for public review in the Office of the Superintendent, Monocacy National Battlefield, at 4801 Urbana Pike, Frederick, Maryland 21701, by telephone at (301) 662-6980 and at the following locations: Chief of Planning, National Capital Region, National Park Service, 1100 Ohio Drive, SW., Washington, DC 20242, (202) 619-7277; Office of Public Affairs, National Park Service, Department of the Interior, 1849 C Street, NW., Washington, DC 20240, (202) 208-6843; Urbana Regional Library, 9020 Amelung Street, Frederick, Maryland 21704; and the C. Burr Artz Public Library, 110 East Patrick Street, Frederick, Maryland 21701. Copies of the document may also be accessed via Internet at http://www.nps.gov/mono or through the NPS PEPC (Planning, Environment and Public Comment) Web site at: http://parkplanning.nps.gov/parkHome.cfm?parkId=192.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Susan Trail, Superintendent, Monocacy National Battlefield at 4801 Urbana Pike, Frederick, Maryland 21701, and by telephone at (301) 662-6980.

SUPPLEMENTARY INFORMATION: The no-action alternative describes the existing conditions and trends of park management and serves as a basis for comparison in evaluating the other alternatives.

Alternative 2 focuses narrowly on the story of the Battle of Monocacy, explaining troop movements, how the landscape affected the battle, and conveying an understanding of the participants. It is highly dependent upon the visitors getting out into the landscape with restored historic structures providing reference points but not being the interpretive focal point. It includes an alternative transportation system operated by a commercial entity if market conditions allow. Visitor services would be provided at the visitor center, at the Gambrill Mill, and within a rehabilitated stone house on the Thomas Farm. An existing trail from the Gambrill Mill would be extended to the site of Wallace's headquarters, a major feature of the battlefield currently not open to visitors. A small parking area and restrooms would be provided at the latter site. Administration and maintenance facilities for Monocacy National Battlefield would move into rented space outside the boundary. The Thomas House would be rehabilitated under the Historic Leasing Program. Safer access to the 14th New Jersey Monument and a designated commemorative zone for possible new monuments would be created. A deck would be constructed over Interstate Highway 270 (I-270) to connect the Thomas and Worthington farms visually and physically with continuous landscape. The deck, featuring automobile access, would only be constructed if wholly or partly covered as mitigation for impacts resulting from the widening of I-270 currently being proposed under a Draft Environmental Impact Statement prepared by Maryland State Highway Administration and the Federal Highway Administration.

Alternative 3 would expand the story of the battle, not only explaining the troop movements but describing the impact of the battle and the Civil War on Frederick and the surrounding countryside. It would focus more on the human story than Alternative 2 with exhibits in the restored Best and Worthington houses as well as the stone house on the Thomas Farm. Parking at each site would be developed. No alternative transportation system would be available in Alternative 3. Visitors would access the site via personal automobile. Visitor services would be provided at the visitor center, at the Gambrill Mill, and within a rehabilitated stone house on the Thomas Farm. The maintenance facility would remain in the current structure while administration offices would be in a rehabilitated Thomas House. A new, safer entrance to the 14th New Jersey Monument would be created across Maryland Highway 355 with access under the existing bridge. The Lewis farmstead would be accessed by trail from the Worthington parking area along Baker Road. No deck would be constructed over I-270. Monocacy National Battlefield would institute a policy of no new monuments.

Alternative 4, the NPS preferred alternative, was developed with the aid of a process called “Choosing By Advantages” in which the planning team identifies and compares the relative advantages of each alternative according to a set of factors. This process also establishes the relationship between the advantages and costs of each alternative. This information is used to combine the best attributes of the preliminary alternatives into the preferred alternative giving the NPS the greatest overall benefit for the most reasonable cost.

Alternative 4 would provide visitor services at the visitor center, the Gambrill Mill, and the stone house on the Thomas Farm. In addition, exhibits would be provided at the secondary house on the Best Farm and at the Worthington House. Parking at each location would be developed. There would be no alternative transportation system. Visitors would access the site via personal automobile. The maintenance facility would remain in its current structure. An existing trail from the Gambrill Mill would be extended to the site of Wallace's headquarters, a major feature of the battlefield currently not open to visitors. Administration offices would be in the rehabilitated Thomas House. Safer access to the 14th New Jersey Monument and a designated commemorative zone for possible new monuments would be developed. Instead of a deck across I-270 connecting the Worthington and Thomas farmsteads, a small pedestrian deck would be created to allow visitors to cross between the two sites.

Dated: August 13, 2007.
Joseph M. Lawler,
Regional Director, National Capital Region.

[FR Doc. E7-17594 Filed 9-5-07; 8:45 am]

BILLING CODE 4312-57-P